DEPARTMENT OF ENERGY

Federal Energy Regulatory Commission

[Project No. 606-027-CA]

Kilarc-Cow Creek Hydroelectric Project; Notice of Intention To Prepare an Environmental Impact Statement

February 19, 2010.

The Federal Energy Regulatory Commission (FERC) has received an application for surrender of license for the Kilarc-Cow Creek Hydroelectric Project, FERC No. 606. The project contains two developments and is located on Old Cow Creek and South Cow Creek in Shasta County, northern California.

In the March 13, 2009 application, Pacific Gas and Electric Company (licensee) proposes to surrender the license, decommission and remove project facilities, as described in its proposed decommissioning plan. In general, (1) diversion dams would be removed to stop water diversions and to allow for free passage of fish and sediment; (2) some diversion dam abutments and foundations would be left in place to protect stream banks and provide grade control; (3) both powerhouse structures would be secured and left in place during decommissioning and an option for future reuse of the powerhouse structures would be preserved; (4) electric generators, turbines and other equipment would be removed; (5) both forebays would be graded and filled; and (6) canal segments would be left in place, breached, or filled in consultation with affected landowners, and metal and wood flume structures would be removed. The licensee consulted with federal, state, local agencies, and other parties with potential interest, during the license surrender application process.

As a result of the public scoping process and environmental site review, the FERC staff has determined that the proposed license surrender would constitute a major federal action significantly affecting the quality of the human environment. Therefore, the staff intends to prepare an environmental impact statement (EIS) on the surrendering of the hydroelectric project in lieu of an environmental assessment (EA). The EIS will be prepared in accordance with the National Environmental Policy Act (NEPA).

Scoping

The FERC staff prepared a scoping document and held public scoping meetings on October 19, 2009 in Palo Cedro, CA and October 22, 2009 in Redding, CA. FERC staff held public environmental site reviews of the project on October 20 and 21, 2009. The public meetings and environmental site reviews assisted staff in identifying the scope of the environmental issues that should be analyzed. The results of the scoping were extensive and indicate than an EIS should be prepared for this project rather than an EA, as staff had initially anticipated. The upcoming EIS will reflect input received at the scoping meetings and justify why staff has determined that an EIS should be prepared.

Process

The FERC staff will first issue and circulate a draft EIS to all of the interested parties for comment. All comments filed on the draft EIS will be analyzed by the FERC staff and considered in the final EIS pursuant to NEPA. The FERC staff will also hold a public meeting in California before issuing the final EIS. The staff's conclusions and recommendations will then be presented for the consideration of the Commission in the order reaching its final decision.

For further information please contact the project coordinator, CarLisa Linton at (202) 502-8416 or carlisa.linton-peters@ferc.gov.

Kimberly D. Bose,
Secretary.

[FR Doc. 2010-4093 Filed 2-26-10; 8:45 am]

BILLING CODE 6717-01-P